DEPARTMENT OF STATE

[Public Notice 7554]

Culturally Significant Object Imported for Exhibition Determinations: “Warhol: The Headlines”

ACTION: Notice, correction.

SUMMARY: On July 7, 2011, notice was published on page 39974 of the Federal Register (Volume 76, No. 130) of determinations made by the Department of State pertaining to the exhibition, “Warhol: The Headlines.” The referenced notice is corrected to add one additional object to be included in the exhibition. Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257 of April 15, 2003), I hereby determine that the additional object to be included in the exhibition “Warhol: The Headlines,” imported from abroad for temporary exhibition within the United States, is of cultural significance. The object is imported pursuant to a loan agreement with the foreign owner or custodian. I also determine that the exhibition or display of the exhibit object at the National Gallery of Art, Washington, DC, from on or about September 25, 2011, until on or about January 2, 2012, at The Andy Warhol Museum, Pittsburgh, Pennsylvania, from on or about October 14, 2012, until on or about January 6, 2013, and at possible additional exhibitions or venues yet to be determined, is in the national interest. I have ordered that Public Notice of these Determinations be published in the Federal Register.

FOR FURTHER INFORMATION CONTACT: For further information, including a description of the additional object, contact Paul W. Manning, Attorney-Adviser, Office of the Legal Adviser, U.S. Department of State (telephone: 202-632-6469). The mailing address is U.S. Department of State, SA-5, L/PD, Fifth Floor (Suite 5H03), Washington, DC 20522-0505.

Dated: August 4, 2011.
J. Adam Ereli,
Principal Deputy Assistant Secretary, Bureau of Educational and Cultural Affairs, Department of State.

[FR Doc. 2011-20424 Filed 8-10-11; 8:45 am]

BILLING CODE 4710-05-P